DEPARTMENT OF HEALTH AND HUMAN SERVICES

National Institutes of Health

Office of the Director, National Institutes of Health; Office of Biotechnology Activity; Recombinant DNA Research; Notice of a Working Group Meeting of the NIH Blue Ribbon Panel

There will be a working group meeting of the NIH Blue Ribbon Panel to advise on the Risk Assessment of the National Emerging Infectious Diseases Laboratories (NEIDL) at Boston University Medical Center.

The meeting will be held on Wednesday, July 16, 2008, at the National Institutes of Health, Building 31, 31 Center Drive, Floor 6C, Room 6, Bethesda, MD 20892 from approximately 8 a.m. to 1 p.m.

Discussions will focus on risk communications and the general principles and strategies for effective community outreach and engagement.

For further information concerning this meeting contact Ms. Laurie Lewallen, Advisory Committee Coordinator, Office of Biotechnology Activities, Office of the Director, National Institutes of Health, Mail Stop Code 7985, Bethesda, MD 20892-7985, telephone 301-496-9838, e-mail lewallla@od.nih.gov.

Background information may be obtained by contacting NIH OBA by email oba@od.nih.gov.

Dated: June 26, 2008.
Amy P. Patterson,
Director, Office of Biotechnology Activities, National Institutes of Health.

[FR Doc. E8-15064 Filed 7-2-08; 8:45 am]

BILLING CODE 4140-01-P